DEPARTMENT OF COMMERCE

Foreign-Trade Zones Board

[B-53-2012]

Foreign-Trade Zone 20—Suffolk, VA; Notification of Proposed Production Activity, Usui International Corporation, (Diesel Engine Fuel Lines), Chesapeake, VA

The Virginia Port Authority, grantee of FTZ 20, submitted a notification of proposed production activity on behalf of Usui International Corporation (Usui), located in Chesapeake, Virginia. The notification conforming to the requirements of the regulations of the Board (15 CFR 400.22) was received on June 28, 2012.

The Usui facility is located within Site 9 of FTZ 20. The facility is used for the production of diesel engine fuel lines. Production under FTZ procedures could exempt Usui from customs duty payments on foreign status components used in export production. On its domestic sales, Usui would be able to choose the duty rate during customs entry procedures that applies to diesel engine fuel lines (duty rate—2.5%) for the foreign status inputs noted below. Customs duties also could possibly be deferred or reduced on foreign status production equipment.

Components and materials sourced from abroad include: Plastic caps and clips, rubber o-rings, paper labels, adhesive tape, tubes/pipes/profiles, fasteners, springs, tags, brackets, engine parts, plates, fixtures, alarm tanks, and caps (duty rate ranges from free to 8.5%).

Public comment is invited from interested parties. Submissions shall be addressed to the Board's Executive Secretary at the address below. The closing period for their receipt is September 24, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Pierre Duy at Pierre.Duy@trade.gov or (202) 482-1378.

Dated: July 26, 2012.
Andrew McGilvray,
Executive Secretary.

[FR Doc. 2012-19806 Filed 8-10-12; 8:45 am]

BILLING CODE P